DEPARTMENT OF HOUSING AND URBAN DEVELOPMENT

[Docket No. FR-7090-N-05]

60-Day Notice of Proposed Information Collection: Evaluation of the Emergency Housing Voucher Program; OMB Control No.: 2528-NEW

AGENCY: Office of Policy Development and Research, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: July 19, 2024.

ADDRESSES: Interested persons are invited to submit comments regarding this proposal. Written comments and recommendations for the proposed information collection can be submitted within 60 days of publication of this notice to www.reginfo.gov/public/do/PRAMain. Find this particular information collection by selecting, “Currently under 60-day Review—Open for Public Comments” or by using the search function. Interested persons are also invited to submit comments regarding this proposal by name and/or OMB Control Number and can be sent to: Anna Guido, Reports Management Officer, REE, Department of Housing and Urban Development, 451 7th Street SW, Room 8210, Washington, DC 20410-5000 or email at PaperworkReductionActOffice@hud.gov.

FOR FURTHER INFORMATION CONTACT: Anna Guido, Reports Management Officer, Department of Housing and Urban Development, 451 7th Street SW, Washington, DC 20410; email; Anna.P.Guido@hud.gov; telephone (202) 402-5535 (this is not a toll-free number). HUD welcomes and is prepared to receive calls from individuals who are deaf or hard of hearing, as well as individuals with speech or communication disabilities. To learn more about how to make an accessible telephone call, please visit https://www.fcc.gov/consumers/guides/telecommunications-relay-service-trs.

Copies of available documents submitted to OMB may be obtained from Ms. Guido.

SUPPLEMENTARY INFORMATION: This notice informs the public that HUD is seeking approval from OMB for the information collection described in Section A.

A. Overview of Information Collection

Title of Information Collection: Evaluation of the Emergency Housing Voucher Program.

OMB Approval Number: 2528-New.

Type of Request: New collection.

Form Number: N/A.

Description of the need for the information and proposed use: The purpose of this proposed information collection is to gather information in support of the Evaluation of the Emergency Housing Voucher Program. The Emergency Housing Voucher (EHV) Program is one of eight housing provisions that was included in the American Rescue Plan Act of 2021 (ARP). Section 3202 of ARP provided $5 billion to HUD to fund a temporary voucher program that, in part, supported roughly 70,000 incremental emergency vouchers to be allocated to Public Housing Agencies (PHAs) via formula.

The Evaluation of the EHV program will document the implementation and early outcomes of the EHV Program through a mixed mode data collection approach to provide a broad overview of the program nationally.

Data collection activities planned to be carried out as part of the evaluation include: (1) collecting HUD administrative data, (2) a national web survey of 611 PHAs administering the EHV program and 371 referring partner Continuums of Care (CoCs), and (3) telephone/virtual interviews with staff from a selected sample of communities, including PHAs, CoCs, and other PHA partner organizations. The evaluation will use a mixed-methods approach with administrative data and web survey data to measure outcomes in key interest areas. The follow-up telephone interviews will collect information on the experiences of program staff in implementing the EHV program.

In total, HUD plans to conduct a web survey of 611 PHAs, a web survey of 371 CoCs, and 50 telephone/virtual interviews (comprised of interviews with 25 PHAs and 25 CoCs/partner organizations).

HUD will provide reasonable accommodations. Respondents who are blind or have vision-related disabilities, deaf or hard of hearing, as well as individuals with speech or communication disabilities can elect to participate through a web-based version of the data collection or through a telephone-based version of the data collection. HUD welcomes and is prepared to receive calls from individuals who are deaf or hard of hearing, as well as individuals with speech or communication disabilities. To learn more about how to make an accessible telephone call, please visit https://www.fcc.gov/consumers/guides/telecommunications-relay-service-trs. We will use translation and/or interpretation services as needed for individuals with Limited English Proficiency.

Respondents (i.e., affected public): PHA staff, CoC staff, and partner organization staff.

Estimated Number of Respondents: 611 respondents to the web survey of PHAs, 371 respondents to the web survey of CoCs, 50 respondents to the phone/virtual interviews with PHA staff, and 50 respondents to the phone/virtual interviews with CoC staff/partner organizations.

Frequency of Response: 1.

Estimated Number of Responses: 611 responses to the web survey of PHAs, 371 responses to the web survey of CoCs, 50 responses to the phone/virtual interviews with PHAs, 50 responses to the phone/virtual interviews with CoCs/partner organizations.

Average Hours per Response: The web survey for PHA staff is expected to take 35 minutes per respondent. The web survey for CoC staff is expected to take 57 minutes per respondent. Phone/virtual interviews with PHA staff are expected to take 105 minutes per respondent. Phone/virtual interviews with CoC/partner organization staff are expected to take 75 minutes per respondent.

Total Estimated Burdens: 856.83 hours.

Table 1—Estimated Hour and Cost Burden of Information Collection
Information collection | Number of respondents | Frequency of response | Responses per annum | Burden hour per response | Annual burden hours | Hourly cost per response | Cost
Web survey for PHA staff | 611 | 1 | 611 | .58 | 354.38 | $59.90 | $21,227.36
Web survey for CoC staff | 371 | 1 | 371 | .95 | 352.45 | 59.90 | 21,111.75
Phone/Virtual Interviews with PHA staff | 50 | 1 | 50 | 1.75 | 87.5 | 59.90 | 5,241.25
Phone/Virtual Interviews with CoCs and non-CoC partner organization staff | 50 | 1 | 50 | 1.25 | 62.5 | 59.90 | 3,743.75
Total | 1,082 |  | 1,082 |  | 856.83 |  | 51,324.11

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected, and

(4) Ways to minimize the burden of the collection of information on those who are to respond; including through the use of appropriate automated collection techniques or other forms of information technology, e.g., permitting electronic submission of responses.

HUD encourages interested parties to submit comments in response to these questions.

C. Authority

Section 3507 of the Paperwork Reduction Act of 1995, 44 U.S.C. 3507.

Calvin C. Johnson,
Deputy Assistant Secretary for the Office of Research, Evaluation, & Monitoring.

[FR Doc. 2024-11009 Filed 5-17-24; 8:45 am]

BILLING CODE 4210-67-P